Title 3—

The President

Proclamation 8391 of June 11, 2009

Flag Day and National Flag Week, 2009

By the President of the United States of America

A Proclamation

In the midst of a war for our Nation's independence, on June 14, 1777, the Second Continental Congress adopted a flag as a symbol of our fledgling Union. The Congress resolved that the flag be “thirteen stripes, alternate red and white; that the union be thirteen stars, white in a blue field, representing a new constellation.” For generations to come, this pattern would serve as a compass bearing toward equality and justice for all.

Our flag's journey has been long. It has seen our Nation through war and peace, triumph and tragedy. It flew above the walls of Fort Sumter, South Carolina, at the outset of the Civil War. It stood on Mount Suribachi on the island of Iwo Jima during World War II. During the Civil Rights Movement, determined protesters on the streets of Selma, Alabama, proudly displayed its colors. Following the attacks of September 11, 2001, Old Glory flew over the southwestern wall of the Pentagon and the rubble of the World Trade Center. Today, the men and women of the United States Armed Forces bear our flag as they serve bravely around the world.

The flag is still more than a historical symbol: it is part of our culture. In our schools children pledge allegiance to our flag and recite the ideals upon which our Nation was founded. Families sit on their front porches under a billowing Stars and Stripes. And each day as the flag is raised above military installations and government buildings, we are reminded of the great sacrifices that have been made in defense of our Nation.

The Stars and Stripes tells our Nation's story and embodies its highest ideals. Its display reminds us of America's promise and guides us toward a brighter tomorrow.

To commemorate the adoption of our flag, the Congress, by joint resolution approved August 3, 1949, as amended (63 Stat. 492), designated June 14 of each year as “Flag Day” and requested the President to issue an annual proclamation calling for a national observance and for the display of the flag of the United States on all Federal Government buildings. In a second joint resolution approved June 9, 1966, as amended (80 Stat. 194), the Congress requested the President to issue annually a proclamation designating the week during which June 14 falls as “National Flag Week” and called upon all citizens of the United States to display the flag during that week.

NOW, THEREFORE, I, BARACK OBAMA, President of the United States of America, do hereby proclaim June 14, 2009, as Flag Day and the week beginning June 14, 2009, as National Flag Week. I direct the appropriate officials to display the flag of the United States on all Federal Government buildings during the week, and I urge all Americans to observe Flag Day and National Flag Week by flying the Stars and Stripes at their homes and other suitable places. I also call upon the people of the United States to observe with pride and all due ceremony those days from Flag Day through Independence Day, set aside by the Congress (89 Stat. 211) as a time to honor America, celebrate our heritage in public gatherings and activities, and recite publicly the Pledge of Allegiance to the Flag of the United States of America.

IN WITNESS WHEREOF, I have hereunto set my hand this eleventh day of June, in the year of our Lord two thousand nine, and of the Independence of the United States of America the two hundred and thirty-third.

[FR Doc. E9-14340

Filed 6-16-09; 8:45 am]

Billing code 3195-W9-P